DEPARTMENT OF TRANSPORTATION

Federal Aviation Administration

14 CFR Part 39

[Docket No. FAA-2007-0230; Directorate Identifier 2007-NM-043-AD]

RIN 2120-AA64

Airworthiness Directives; Airbus Model A330-200, A330-300, A340-200, and A340-300 Series Airplanes

AGENCY: Federal Aviation Administration (FAA), Department of Transportation (DOT).

ACTION: Notice of proposed rulemaking (NPRM).

SUMMARY: The FAA proposes to supersede an existing airworthiness directive (AD) that applies to all Airbus Model A330-200, A330-300, A340-200, and A340-300 series airplanes. The existing AD currently requires an accelerated schedule of repetitive testing of the elevator servo control loops, and corrective actions if necessary. This proposed AD would retain the existing requirements, reduce the applicability of the existing AD, and add terminating actions. This proposed AD results from reports of failed elevator servo controls due to broken guides. We are proposing this AD to prevent failure of the elevator servo controls during certain phases of takeoff, which could result in an unannounced loss of elevator control and consequent reduced controllability of the airplane.

DATES: We must receive comments on this proposed AD by December 26, 2007.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Comments Invited

We invite you to send any written relevant data, views, or arguments about this proposed AD. Send your comments to an address listed under the ADDRESSES section. Include “Docket No. FAA-2007-0230; Directorate Identifier 2007-NM-043-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On October 31, 2005, we issued AD 2005-23-10, amendment 39-14368 (70 FR 69065, November 14, 2005), for all Airbus Model A330-200, A330-300, A340-200, and A340-300 series airplanes. That AD requires an accelerated schedule of repetitive testing of the elevator servo control loops, and corrective actions if necessary. That AD resulted from reports of failed elevator servo controls due to broken guides. We issued that AD to ensure proper functioning of the elevator servo controls. Failure of the elevator servo controls during certain phases of takeoff could result in an unannounced loss of elevator control and consequent reduced controllability of the airplane.

Actions Since Existing AD Was Issued

The preamble to AD 2005-23-10 explains that we consider the requirements “interim action” and were considering further rulemaking. We now have determined that further rulemaking is indeed necessary, and this proposed AD follows from that determination.

Relevant Service Information

Airbus has issued Revision 02 of Airbus Service Bulletins A330-27-3138 (for Model A330-200 and -300 series airplanes) and A340-27-4137 (for Model A340-200 and -300 series airplanes); both dated May 30, 2006. These service bulletins supersede, respectively, Revision 01 of Airbus All Operator Telexes (AOT) A330-27A3138 and A340-27A4137, both dated October 3, 2005. The AOTs are referenced in AD 2005-23-10 as the appropriate source of service information for accomplishing the required testing of the elevator servo control loops, and corrective actions if necessary. The procedures specified in Revision 02 of the service bulletins are identical to those in Revision 01 of the AOTs. No additional work is necessary for airplanes on which the actions specified in Revision 01 of the applicable AOT have been done.

Airbus also has issued the following service bulletins:

Service Bulletins
Airbus service bulletins— | Describe procedures for— | And refer to—
A330-27-3136, Revision 01, dated July 19, 2006 (for Model A330-200 and -300 series airplanes); and A340-27-4135, dated January 12, 2006 (for Model A340-200 and -300 series airplanes) | Modification of four elevator servo controls by installing a new plug-guide assembly | Goodrich Actuation Systems Service Bulletin SC4800-27-18, Revision 1, dated May 19, 2006, as an additional source of service information for accomplishing the modification.
A330-27-3134, Revision 01, dated May 12, 2006 (for Model A330-200 and -300 series airplanes); and A340-27-4132, dated October 13, 2005 (for Model A340-200 and -300 series airplanes) | Modification of four elevator servo controls by replacing the o-ring of the solenoid valves with a new o-ring | Goodrich Actuation Systems Service Bulletin SC4800-27-17, Revision 2, dated May 19, 2006, as an additional source of service information for accomplishing the modification.

Accomplishing the modification specified in the service bulletins eliminates the need for the repetitive inspection requirements of AD 2005-23-10 and is intended to adequately address the unsafe condition. The European Aviation Safety Agency (EASA), which is the Technical Agent for the Member States of the European Community, mandated the service information and issued airworthiness directive 2007-0008, dated January 9, 2007, to ensure the continued airworthiness of these airplanes in the European Union.

FAA's Determination and Requirements of the Proposed AD

These airplanes are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that AD action is necessary for airplanes of this type design that are certificated for operation in the United States.

This proposed AD would supersede AD 2005-23-10 and would retain the requirements of the existing AD. This proposed AD also would require accomplishing the actions specified in service information described previously. Accomplishing the modification specified in the service bulletins described previously eliminates the need for the retained requirements of 2005-23-10. This proposed AD also would remove airplanes from the applicability of the existing AD.

Costs of Compliance

The following table provides the estimated costs for U.S. operators of the affected Model A330-200 and A330-300 series airplanes to comply with this proposed AD.

Estimated Costs
Action | Work hour(s) | Average labor rate per hour | Parts | Cost per airplane | Number of U.S.-registered airplanes | Fleet cost
Inspection (required by AD 2005-23-10) | 1 | $80 | None | $80, per inspection cycle | 18 | $1,440, per inspection cycle.
Modifications (new proposed actions) | 28 | $80 | The manufacturer states that it will supply required parts to the operators at no cost | $2,240 | 18 | $40,320.

Currently, there are no affected Model A340-200 and A340-300 series airplanes on the U.S. Register. However, if an affected airplane is imported and placed on the U.S. Register in the future, the proposed modification would take about 10 work hours, at an average labor rate of $80 per work hour. The manufacturer states that it would supply required parts to the operators at no cost. Based on these figures, we estimate the cost of this proposed AD for Model A340-200 and A340-300 series airplanes to be $800 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14368 (70 FR 69065, November 14, 2005) and adding the following new airworthiness directive (AD):

Airbus: Docket No. FAA-2007-0230; Directorate Identifier 2007-NM-043-AD.

Comments Due Date

(a) The FAA must receive comments on this AD action by December 26, 2007.

Affected ADs

(b) This AD supersedes AD 2005-23-10.

Applicability

(c) This AD applies to the airplanes identified in Table 1 of this AD, certificated in any category.

Table 1.—Applicability
Airbus model— | Excluding those airplanes on which any of the following— | Has been installed—
A330-200, A330-300, A340-200, and A340-300 series airplanes | Airbus modification 54833 | In production.
| Airbus Service Bulletin A330-27-3136, Revision 01, dated July 19, 2006 | In service.
| Airbus Service Bulletin A340-27-4135, dated January 12, 2006 | In service.

Unsafe Condition

(d) This AD results from reports of failed elevator servo controls due to broken guides. We are proposing this AD to prevent failure of the elevator servo controls during certain phases of takeoff, which could result in an unannounced loss of elevator control and consequent reduced controllability of the airplane.

Compliance

(e) You are responsible for having the actions required by this AD performed within the compliance times specified, unless the actions have already been done.

Requirements of AD 2005-23-10

Service Information

(f) The term “AOT,” as used in paragraphs (g) through (i) of this AD, means section 4.2. “Description” of the following service information, as applicable:

(1) For Model A330-200 and -300 series airplanes: Airbus All Operators Telex A330-27A3138, Revision 01, dated October 3, 2005; and

(2) For Model A340-200 and -300 series airplanes: Airbus All Operators Telex A340-27A4137, Revision 01, dated October 3, 2005.

Initial and Repetitive Elevator Servo-Loop Tests

(g) Within 200 flight hours after November 29, 2005 (the effective date of AD 2005-23-10): Test the elevator servo-loops, in accordance with the AOT, except as provided by paragraph (j) of this AD. If the test of the elevator servo-loops passes, repeat the test at intervals not to exceed 140 flight hours or 8 days, whichever occurs first.

Failed Tests

(h) If any test of the elevator servo-loops required by paragraph (g) of this AD fails: Before further flight, troubleshoot the cause of the test failure, and do the applicable corrective actions; in accordance with the AOT, except as provided by paragraph (j) of this AD. Thereafter, repeat the test at the times specified in paragraph (g) of this AD.

Reporting Requirement

(i) Following each test required by paragraph (g) of this AD, submit a report of the findings of only failed elevator servo-loop tests to Airbus Customer Services, Engineering and Technical Support, Attention: Mr. J. Laurent, SEE53, fax +33/(0)5.61.93.44.25; at the applicable time specified in paragraph (i)(1) or (i)(2) of this AD. The report must include the description of the failure experienced during the test, the identified cause of the failure, and the number of flight hours and flight cycles on the airplane. Under the provisions of the Paperwork Reduction Act of 1980 (44 U.S.C. 3501 et seq.), the Office of Management and Budget (OMB) has approved the information collection requirements contained in this AD and has assigned OMB Control Number 2120-0056.

(1) If the test was done after November 29, 2005: Submit the report within 10 days after the test.

(2) If the test was done prior to November 29, 2005: Submit the report within 10 days after November 29, 2005.

New Requirements of This AD

New Service Information for Testing

(j) As of the effective date of this AD, do the actions required by paragraphs (g) and (h) of this AD in accordance with the Accomplishment Instructions of the following service bulletins, as applicable.

(1) For Model A330-200 and -300 series airplanes: Airbus Service Bulletin A330-27-3138, Revision 02, dated May 30, 2006; and

(2) For Model A340-200 and -300 series airplanes: Airbus Service Bulletin A340-27-4137, Revision 02, dated May 30, 2006.

Terminating Actions

(k) Within 17 months after the effective date of this AD, modify the four elevator servo controls in accordance with the Accomplishment Instructions of Airbus Service Bulletin A330-27-3136, Revision 01, dated July 19, 2006 (for Model A330-200 and -300 series airplanes); or Airbus Service Bulletin A340-27-4135, dated January 12, 2006 (for Model A340-200 and -300 series airplanes); as applicable.

Note 1: Airbus Service Bulletins A330-27-3136 and A340-27-4135 refer to Goodrich Actuation Systems Service Bulletin SC4800-27-18, Revision 1, dated May 19, 2006, as an additional source of service information for accomplishing the modification required by paragraph (k) of this AD.

(l) Modifications done before the effective date of this AD in accordance with the Accomplishment Instructions of Airbus Service Bulletin A330-27-3136, dated January 12, 2006, are acceptable for compliance with the modification required by paragraph (k) of this AD.

(m) Concurrently with the modification required by paragraph (k) of this AD, modify the four elevator servo controls in accordance with the Accomplishment Instructions of Airbus Service Bulletin A330-27-3134, Revision 01, dated May 12, 2006 (for Model A330-200 and -300 series airplanes); or Airbus Service Bulletin A340-27-4132, dated October 13, 2005 (for Model A340-200 and -300 series airplanes); as applicable.

Note 2: Airbus Service Bulletins A330-27-3134 and A340-27-4132 refer to Goodrich Actuation Systems Service Bulletin SC4800-27-17, Revision 2, dated May 19, 2006, as an additional source of service information for accomplishing the modification required by paragraph (m) of this AD.

(n) Modifications done before the effective date of this AD in accordance with the Accomplishment Instructions of Airbus Service Bulletin A330-27-3134, dated October 13, 2005, are acceptable for compliance with the modification required by paragraph (m) of this AD.

(o) Accomplishment of the modifications required by paragraphs (k) and (m) of this AD constitutes terminating action for the requirements of paragraphs (f) through (i) of this AD.

Parts Installation

(p) As of the effective date of this AD, no person may install, on any airplane, an elevator servo control, unless it has been modified in accordance with paragraphs (k) and (m) of this AD.

Alternative Methods of Compliance (AMOCs)

(q)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(r) EASA airworthiness directive 2007-0008, dated January 9, 2007, also addresses the subject of this AD.

Issued in Renton, Washington, on November 13, 2007.
Ali Bahrami,
Manager, Transport Airplane Directorate, Aircraft Certification Service.

[FR Doc. E7-22925 Filed 11-23-07; 8:45 am]

BILLING CODE 4910-13-P